DEPARTMENT OF ENERGY

Federal Energy Regulatory Commission

18 CFR Chapter I

[Docket No. RM02-7-000]

Accounting and Reporting of Asset Retirement Obligations

April 23, 2002

AGENCY: Federal Energy Regulatory Commission, DOE.

ACTION: Notice of technical conference and updated agenda.

SUMMARY: The Federal Energy Regulatory Commission (Commission) previously issued a Notice of Informal Technical Conference on March 29, 2002, announcing that the Commission staff will hold a technical conference on May 7, 2002 to discuss the financial accounting, reporting and ratemaking implications related to asset retirement obligations associated with the retirement of tangible long-lived assets. In addition, the March 29, 2002, notice requests written comments be submitted on or before April 29, 2002. Today's notice updates the agenda, showing the names of panelists and times for each panel. All interested parties are invited to attend.

DATES: The May 7, 2002, technical conference begins at 9 a.m. and ends at 4 p.m.

ADDRESSES: Technical conference will be held in the Commission Meeting Room of the Federal Energy Regulatory Commission, 888 First Street, NE., Washington, DC 20426.

FOR FURTHER INFORMATION CONTACT: Mark Klose (Project Manager/Technical Issues), at (202) 219-2595 or mark.klose@ferc.gov, Raymond Reid (Technical Issues), at (202) 219-2928 or raymond.reid@ferc.gov or Julia Lake (Legal Issues), at (202) 208-2019 or julia.lake@ferc.gov

SUPPLEMENTARY INFORMATION: In addition to publishing the full text of this document in the Federal Register, it is available for inspection in the Commission's Public Reference Room at 888 First Street, NE., Room 2A, Washington, DC 20426, during regular business hours and is posted on both the Commission's Issuance Posting System (CIPS) and the Records and Information Management Systems (RIMS), and may be viewed and printed remotely via the Internet through Commission's Home Page: http: //www.ferc.gov.

As announced in the Notice of Conference issued March 29, 2002,¹ Commission staff will hold a technical conference on May 7, 2002 to discuss the financial accounting, reporting and ratemaking implications related to asset retirement obligations associated with the retirement of tangible long-lived assets. This one-day conference will begin at 9 a.m. and end at approximately 4 p.m., and will be held in the Commission Meeting Room of the Federal Energy Regulatory Commission, 888 First Street, NE., Washington, DC. All interested persons are invited to attend.

¹ See 67 FR 16071 (April 4, 2002).

Notice of Techical Conference and Updated Agenda

The Commission staff will discuss the following topics with panelists:

1. The types of fixed assets that have an asset retirement obligation that would be recognized and measured under such a requirement.

2. The impact asset retirement obligations have on depreciation accounting and depreciation procedures.

3. The accounting implementation issues related to the recognition of asset retirement obligations for existing and future long-lived assets.

4. The impact on the Uniform Systems of Accounts and the Commission's rate regulations.

Attached is the updated Agenda, showing names of panelists and times for each panel.

Questions about the conference and the program should be directed to Mark Klose (Project Manager/Technical Issues), at (202) 219-2595 or mark.klose@ferc.gov, Raymond Reid (Technical Issues), at (202) 219-2928 or raymond.reid@ferc.gov or Julia Lake (Legal Issues), at (202) 208-2019 or julia.lake@ferc.gov

Magalie R. Salas,
Secretary.

May 7, 2002 Conference Agenda

I. Opening Remarks—FERC Staff

9 a.m-9:15 a.m.

John M. Delaware, Deputy Executive Director and Chief Accountant

II. Panel 1—CPA Firms/Academia

9:15 a.m.-10:45 a.m.

CPA Firms

Jan Umbaugh, Partner, Deloitte & Touche, LLP.

Mike Barrett, Partner, Ernst & Young, LLP.

Carl Gilbert, Partner, KPMG, LLP.

Kim Staudt, Partner, PricewaterhouseCoopers, LLP.

Academia

Thomas Porter, Ph.D., Georgia State University.

Break

10:45 a.m.-11 a.m.

III. Panel 2—Industry Associations/Jurisdictional Entities

11 a.m.-12:30 p.m.

Edison Electric Institute

Dane Watson, Property Accounting Services Manager TXU Business Services.

James Henderson, Administrator, Depreciation Studies and Plant Accounting, American Electric Power.

Interstate Natural Gas Association of America

Greg G. Gruber, Senior Vice President, Chief Financial Officer & Treasurer, El Paso Pipeline Group.

Lunch Break

12:30 p.m.-1:30 p.m.

IV. Panel 3—NARUC/Other Regulatory Bodies, and Rural Electric Cooperatives

1:30 p.m.—3 p.m.

National Association of Regulatory Utility Commissioners

Pat Lee, Senior Analyst—PSC, Florida Public Service Commission.

Rural Utilities Services

Kenneth Ackerman, Assistant Administrator, Program Accounting and Regulatory Analysis.

National Rural Electric Cooperative Association

Steve Piecara, Director—Tax Finance and Accounting Policy.

Basin Electric Power Cooperative

Shawn Deisz, Manager, Financial Reporting.

Old Dominion Electric Cooperative

Bob Kees, Assistant Vice President & Controller.

Break

3 p.m.-3:15 p.m.

3:15 p.m.-4 p.m.

V. Panel 4—Other Parties

Brown, Williams, Moorhead and Quinn, Inc.

Ed Feinstein, Vice President.

[FR Doc. 02-10445 Filed 4-26-02; 8:45 am]

BILLING CODE 6717-01-P